DEPARTMENT OF COMMERCE

International Trade Administration

[A-823-815]

Oil Country Tubular Goods From Ukraine: Preliminary Results of the First Five-Year Sunset Review of the Antidumping Duty Order

AGENCY: Enforcement and Compliance, International Trade Administration, Department of Commerce.

SUMMARY: On June 4, 2019, the Department of Commerce (Commerce) initiated the first sunset review of the antidumping duty (AD) order on oil country tubular goods (OCTG) from Ukraine. Commerce determined that it was appropriate to conduct a full review. Commerce preliminarily finds that revocation of this AD order would be likely to lead to continuation or recurrence of dumping at the levels indicated in the “Preliminary Results of Review” section of this notice.

DATES: Applicable September 30, 2019.

FOR FURTHER INFORMATION CONTACT: Lauren Caserta or Mark Hoadley, AD/CVD Operations, Office VII, Enforcement and Compliance, International Trade Administration, U.S. Department of Commerce, 1401 Constitution Avenue NW, Washington, DC 20230; telephone (202) 482-4737 or (202) 482-3148, respectively.

SUPPLEMENTARY INFORMATION:

Background

On June 4, 2019, Commerce initiated the sunset review of the agreement suspending the AD investigation on OCTG from Ukraine, pursuant to section 751(c) of the Tariff Act of 1930, as amended (the Act).¹ Subsequent to the initiation of the sunset review, the suspension agreement on OCTG from Ukraine was terminated and an AD order was issued, effective July 10, 2019.² As section 751(c) of the Act provides for sunset reviews of an AD order or a notice of a suspended investigation, Commerce concludes that continuing the sunset review of the Order despite the termination of the suspension agreement is contemplated by the Act.

¹ See Initiation of Five-Year (Sunset) Reviews, 84 FR 25741 (June 4, 2019); see also Suspension of Antidumping Investigation: Certain Oil Country Tubular Goods From Ukraine, 79 FR 41959 (July 18, 2014).

² See Termination of the Suspension Agreement on Certain Oil Country Tubular Goods from Ukraine, Rescission of Administrative Review, and Issuance of Antidumping Duty Order, 84 FR 33918 (July 16, 2019) (Order).

Commerce received notices of intent to participate from Benteler Steel/Tube (Benteler), Boomerang Tube, LLC (Boomerang), IPSCO Tubulars, Inc. (IPSCO), Vallourec Star, LP (Vallourec), Welded Tube USA Inc. (Welded Tube USA), Maverick Tube Corporation (Maverick), Tenaris Bay City, Inc. (Tenaris Bay), and the United States Steel Corporation (U.S. Steel) (collectively, the domestic interested parties), and Interpipe and North American Interpipe, Inc. (collectively, Interpipe) within the deadline specified in 19 CFR 351.218(d)(1)(i).³ Commerce received substantive responses from the domestic interested parties ⁴ and Interpipe ⁵ within the 30-day deadline specified in 19 CFR 351.218(d)(3)(i). On July 8, 2019, we received rebuttal comments from the domestic interested parties within the deadline specified in 19 CFR 351.218(d)(4).⁶ In addition, on July 8, 2019, the GOU's Ministry of Economic Development and Trade placed comments on the record concerning the initiation of the sunset review of the suspended investigation on OCTG from Ukraine.⁷ On July 29, 2019, Commerce notified the U.S. International Trade Commission (ITC) that it received an adequate substantive response from the respondent interested party.⁸

³ See Benteler, Boomerang, IPSCO, Vallourec, and Welded Tube USA's Letter, “Oil Country Tubular Goods from Ukraine: Notice of Intent to Participate,” dated June 13, 2019; see also Maverick and Tenaris Bay's Letter, “Notice of Intent to Participate in First Sunset Review of the Agreement Suspending the Antidumping Duty Investigation on Oil Country Tubular Goods from Ukraine,” dated June 17, 2019; and U.S. Steel's Letter, “Five-Year (“Sunset”) Review of Agreement Suspending the Antidumping Duty Investigation on Oil Country Tubular Goods from Ukraine: Notice of Intent to Participate,” dated June 19, 2019. Responses from the domestic interested parties and Interpipe were filed prior to the termination of the suspension agreement, and thus reference the suspension agreement rather than the Order.

⁴ See Domestic interested parties' Letter, “Oil Country Tubular Goods from Ukraine: Substantive Response of the Domestic Industry to Commerce's Notice of Initiation of Five-Year (“Sunset”) Reviews,” dated July 3, 2019.

⁵ See Interpipe's Letter, “Sunset Review of the Antidumping Duty Suspension Agreement on Certain Oil Country Tubular Goods from Ukraine: Substantive Response to Notice of Initiation,” July 3, 2019.

⁶ See Domestic interested parties's Letter, “Oil Country Tubular Goods from Ukraine: Rebuttal to the Substantive Response of Interpipe and North American Interpipe to Commerce's Notice of Initiation of Five-Year (“Sunset”) Reviews,” dated July 8, 2019.

⁷ See Letter from the GOU, “Certain Oil Country Tubular Goods from Ukraine, case No. A-823-815: Comments of Ukraine,” dated July 8, 2019 (GOU Comments).

⁸ See Commerce's Letter, “Sunset Reviews Initiated on June 1, 2019,” dated July 29, 2019.

Scope of the Order

The merchandise subject to this Order is certain oil country tubular goods (OCTG) from Ukraine, which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the Order also covers OCTG coupling stock.

Excluded from the scope of this Order are: Casing or tubing containing 10.5 percent or more by weight of chromium; drill pipe; unattached couplings; and unattached thread protectors.

The merchandise subject to this Order is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to this Order may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the product coverage is dispositive.

Analysis of Comments Received

All issues raised for the preliminary results of this sunset review are addressed in the Preliminary Decision Memorandum.⁹ The issues discussed in the Preliminary Decision Memorandum are the likelihood of continuation or recurrence of dumping, and the magnitude of the margins of dumping likely to prevail if this Order were revoked.¹⁰ The Preliminary Decision Memorandum is a public document and is on file electronically via Enforcement and Compliance's Antidumping and Countervailing Duty Centralized Electronic Service System (ACCESS). ACCESS is available to registered users at http://access.trade.gov, and in the Central Records Unit, Room B8024 of the main Commerce building. In addition, a complete version of the Preliminary Decision Memorandum can be accessed directly on the internet at http://enforcement.trade.gov/frn/. The signed Preliminary Decision Memorandum and the electronic version of the Preliminary Decision Memorandum are identical in content.

⁹ See Memorandum, “Preliminary Decision Memorandum for the First Sunset Review of the Antidumping Duty Order on Oil Country Tubular Goods from Ukraine” (Preliminary Decision Memorandum), dated concurrently with and hereby adopted by this notice.

¹⁰ Id.

Preliminary Results of Review

Pursuant to sections 752(c) of the Act, we determine that revocation of the AD order on OCTG from Ukraine would be likely to lead to continuation or recurrence of dumping at weighted average margins of 7.47 percent.

Interested parties may submit case briefs no later than 30 days after the date of publication of the preliminary results of this full sunset review, in accordance with 19 CFR 351.309(c)(1)(i). Rebuttal briefs, which must be limited to issues raised in the case briefs, may be filed no later than five days after the time limit for filing case briefs in accordance with 19 CFR 351.309(d). Any interested party may request a hearing within 30 days of publication of this notice in accordance with 19 CFR 351.310(c). A hearing, if requested, will ordinarily be held two days after the date the rebuttal briefs are due. Commerce will issue a notice of final results of this full sunset review, which will include the results of its analysis of issues raised in any such comments, no later than January 30, 2020.

This five-year (sunset) review and notice are in accordance with sections 751(c), 752(c), and 777(i)(1) of the Act and 19 CFR 351.218(f)(1).

Dated: September 23, 2019.
Jeffrey I. Kessler,
Assistant Secretary for Enforcement and Compliance.

Appendix

List of Topics Discussed in the Preliminary Decision Memorandum

I. Summary

II. History of the Order

III. Background

IV. Scope of the Order

V. Discussion of the Issues

A. Legal Framework

B. Analysis

VI. Recommendation

[FR Doc. 2019-21149 Filed 9-27-19; 8:45 am]

BILLING CODE 3510-DS-P